DEPARTMENT OF ENERGY

Federal Energy Regulatory Commission

[Project No. 4093-035]

McMahan Hydroelectric L.L.C.; Notice of Application Tendered for Filing With the Commission and Soliciting Additional Study Requests and Establishing Procedural Schedule for Relicensing and a Deadline for Submission of Final Amendments

Take notice that the following hydroelectric application has been filed with the Commission and is available for public inspection.

a. Type of Application: Subsequent license.

b. Project No.: P-4093-035.

c. Date filed: March 30, 2015.

d. Applicant: McMahan Hydroelectric L.L.C.

e. Name of Project: Bynum Hydroelectric Project.

f. Location: On the Haw River, in Chatham County, North Carolina. No federal lands are occupied by the project works or located within the project boundary.

g. Filed Pursuant to: Federal Power Act 16 U.S.C. 791(a)-825(r).

h. Applicant Contact: Andrew J. McMahan, President, McMahan Hydroelectric L.L.C., 105 Durham Eubanks Road, Pittsboro, NC 27312l; (336) 509-2148; email—mcmahanhydro@gmail.com.

i. FERC Contact: Sean Murphy at (202) 502-6145; or email at sean.murphy@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: June 14, 2015.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-4093-035.

m. The application is not ready for environmental analysis at this time.

n. The 600-kilowatt (kW) Bynum project is located on the Haw River, in Chatham County, North Carolina. No federal lands are affected. The principal project works consist of: (1) A 750-foot-long, 10-foot-high stone masonry dam with an uncontrolled spillway and a 150-foot-long non-overflow section; (2) a 2000-foot-long canal, between 25 and 40 feet wide; (3) a powerhouse separate from the dam containing a 600-kW generating unit; (4) a reservoir with a surface area of 20 acres at normal pool elevation of 315 feet mean sea level and a gross storage capacity of 100 acre-feet; and (5) appurtenant facilities. The project operates run-of-river and generates and estimated average of 2,461,000 kW hours a year.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. With this notice, we are designating McMahan Hydroelectric L.L.C. as the Commission's non-federal representative for carrying out informal consultation pursuant to section 7 of the Endangered Species Act and section 305(b) of the Magnuson-Stevens Fishery Conservation and Management Act; and consultation pursuant to section 106 of the National Historic Preservation Act.

q. Procedural schedule and final amendments: The application will be processed according to the following preliminary Hydro Licensing Schedule. Revisions to the schedule will be made as appropriate.

Issue Notice of Acceptance | June 2015.
Issue Scoping Document 1 for comments | July 2015.
Comments on Scoping Document 1 due | September 2015.
Issue Scoping Document 2 | September 2015.
Issue notice of ready for environmental analysis | September 2015.
Commission issues EA | March 2016.
Comments on EA due | April 2016.
Commission issues final EA | June 2016.

Final amendments to the application must be filed with the Commission no later than 30 days from the issuance date of the notice of ready for environmental analysis.

Dated: April 14, 2015.
Kimberly D. Bose,
Secretary.

[FR Doc. 2015-09839 Filed 4-27-15; 8:45 am]

BILLING CODE 6717-01-P